DEPARTMENT OF ENERGY

Federal Energy Regulatory Commission

Combined Notice of Filings #1

Take notice that the Commission received the following electric corporate filings:

Docket Numbers: EC17-1-000.

Applicants: Entergy Mississippi, Inc.

Description: Application of Entergy Mississippi, Inc. under Section 203 of the Federal Power Act for approval of transaction.

Filed Date: 10/3/16.

Accession Number: 20161003-5394.

Comments Due: 5 p.m. ET 10/24/16.

Take notice that the Commission received the following electric rate filings:

Docket Numbers: ER10-3193-009; ER10-2480-008; ER10-2538-007; ER10-2615-010; ER10-2718-025; ER10-2719-024; ER10-2924-009; ER10-2934-008; ER10-2950-008; ER10-2959-009; ER10-2961-009; ER11-2041-010; ER11-2042-010; ER11-2335-011; ER13-821-010; ER14-2498-004; ER14-2500-004; ER16-2462-002; ER16-711-003.

Applicants: Brooklyn Navy Yard Cogeneration Partners, L.P., Seneca Energy II, LLC, Innovative Energy Systems, LLC, Kleen Energy Systems, LLC, Berkshire Power Company, LLC, Cogen Technologies Linden Venture, L.P., East Coast Power Linden Holding, L.L.C., Chambers Cogeneration, Limited Partnership, Edgecombe Genco, LLC, Logan Generating Company, LP, Scrubgrass Generating Company, L.P., Spruance Genco, LLC, Newark Energy Center, LLC, EIF Newark, LLC, Plum Point Energy Associates, LLC, Plum Point Services Company, LLC, Panoche Energy Center, LLC, Pio Pico Energy Center, LLC, Oregon Clean Energy, LLC.

Description: Notice of Non-Material Change in Status of the Ares EIF Notice Parties.

Filed Date: 9/30/16.

Accession Number: 20160930-5392.

Comments Due: 5 p.m. ET 10/21/16.

Docket Numbers: ER16-2101-001.

Applicants: Entegra Power Services LLC.

Description: Market-Based Triennial Review Filing: Entegra Power Services LLC Updated MBR Tariff—Refiled Tariff to be effective 10/3/2016.

Filed Date: 10/3/16.

Accession Number: 20161003-5287.

Comments Due: 5 p.m. ET 10/24/16.

Docket Numbers: ER16-2511-001.

Applicants: Stanford University Power LLC.

Description: Tariff Amendment: Supplemental Filing for Stanford University MBR Tariff to be effective 9/29/2016.

Filed Date: 10/3/16.

Accession Number: 20161003-5302.

Comments Due: 5 p.m. ET 10/24/16.

Docket Numbers: ER16-2735-000.

Applicants: Frontera Generation Limited Partnership, AEP Texas Central Company.

Description: Notice of Cancellation of Interconnection Agreement, Rate Schedule No. 98 of AEP Texas Central Company.

Filed Date: 9/30/16.

Accession Number: 20160930-5388.

Comments Due: 5 p.m. ET 10/21/16.

Docket Numbers: ER17-10-000.

Applicants: Southwest Power Pool, Inc.

Description: § 205(d) Rate Filing: 3206 WAPA-UGP and Northern States Power Company Att AO to be effective 9/1/2016.

Filed Date: 10/3/16.

Accession Number: 20161003-5289.

Comments Due: 5 p.m. ET 10/24/16.

Docket Numbers: ER17-11-000.

Applicants: Interstate Power and Light Company.

Description: § 205(d) Rate Filing: IPL-SMEC Agr I to be effective 7/31/2015.

Filed Date: 10/4/16.

Accession Number: 20161004-5023.

Comments Due: 5 p.m. ET 10/25/16.

Docket Numbers: ER17-12-000.

Applicants: Interstate Power and Light Company.

Description: § 205(d) Rate Filing: IPL-SMEC Agr II to be effective 8/1/2016.

Filed Date: 10/4/16.

Accession Number: 20161004-5024.

Comments Due: 5 p.m. ET 10/25/16.

Take notice that the Commission received the following electric securities filings:

Docket Numbers: ES17-1-000.

Applicants: Kansas City Power & Light Company.

Description: Application for Authorization of Issuance of Short-Term Debt Securities Under Section 204 of the Federal Power Act of Kansas City Power & Light Company.

Filed Date: 10/3/16.

Accession Number: 20161003-5396.

Comments Due: 5 p.m. ET 10/24/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2016.
Nathaniel J. Davis, Sr.,
Deputy Secretary.

[FR Doc. 2016-24547 Filed 10-11-16; 8:45 am]

BILLING CODE 6717-01-P